DEPARTMENT OF JUSTICE

Drug Enforcement Administration

Agency Information Collection Activities: Proposed Collection; Comment Requested

ACTION: Notice of information collection under review; extension of a currently approved collection; application for Procurement Quota for Controlled Substances (DEA Form 250).

The Department of Justice, Drug Enforcement Administration (DEA), has submitted the following information collection request for review and clearance in accordance with the Paperwork Reduction Act of 1995. Office of Management and Budget approval is being sought for the information collection listed below. This proposed information collection was previously published in the Federal Register on February 20, 2001, in Vol. 66, Number 34, allowing for a 60-day public comment period.

The purpose of this notice is to allow an additional 30 days for public comment until May 23, 2001. This process is conducted in accordance with 5 CFR 1320.10. Written comments and/or suggestions regarding the item(s) contained in this notice, especially regarding the estimated public burden and associated response time, should be directed to the Office of Management and Budget, Office of Information and Regulatory Affairs, Attention: Department of Justice Desk Officer, Washington, DC 20503. Comments may also be submitted to the Department of Justice (DOJ), Justice Management Division, Information Management and Security Staff, Attention: Department Clearance Officer, National Place Building, 1331 Pennsylvania Avenue, NW., Suite 1220, Washington, DC 20530.

Written comments and/or suggestions from the public and affected agencies concerning the proposed collection of information should address one or more of the four points:

1. Evaluate whether the proposed collection of information is necessary for the proper performance of the function of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of This Information

1. Type of information collection: Extension of a currently approved collection.

2. The title of the form/collection: Application for Procurement Quota for Controlled Substances.

3. The agency form number, if any, and the applicable component of the Department sponsoring the collection: Form Number: DEA Form 250. Applicable component of the Department sponsoring the collection: Office of Diversion Control, Drug Enforcement Administration, U.S. Department of Justice.

4. Affected public who will be asked or required to respond, as well as a brief abstract:

Primary: Business or other for-profit. Other: None.

Abstract: Title 21, CFR 1303.12(b), requires that U.S. companies who desire to use any basic class of controlled substances listed in Schedule I or II for purposes of manufacturing during the next calendar year, shall apply on DEA Form 250 for a procurement quota for such class.

5. An estimate of the total number of respondents, responses and the amount of time estimated for an average respondent to respond/reply: 243 respondents, 807 responses, one hour per response. A respondent may submit multiple responses. A respondent will take an estimate of one hour to complete each form.

6. An estimate of the total public burden (in hours) associated with the collection: 807 annual burden hours.

Public comments on this proposed information collection are strongly encouraged.

If additional information is required contact: Mr. Robert B. Briggs, Clearance Officer, United States Department of Justice, Information Management and Security Staff, Justice Management Division, National Place Building, 1331 Pennsylvania Avenue, NW., Suite 1220, Washington, DC 20530.

Dated: April 17, 2001.
Robert B. Briggs,
Department Clearance Officer, Department of Justice.

[FR Doc. 01-9916 Filed 4-20-01; 8:45 am]

BILLING CODE 4410-09-M